DEPARTMENT OF COMMERCE

International Trade Administration

[A-570-979]

Crystalline Silicon Photovoltaic Cells, Whether or Not Assembled Into Modules, From the People's Republic of China: Amended Final Results of Antidumping Duty Administrative Review, 2019-2020

AGENCY: Enforcement and Compliance, International Trade Administration, Department of Commerce.

SUMMARY: The U.S. Department of Commerce (Commerce) is amending the final results of the administrative review of the antidumping duty (AD) order on crystalline silicon photovoltaic cells, whether or not assembled into modules, from the People's Republic of China (China) to correct a ministerial error. The period of review is December 1, 2019, through November 30, 2020.

DATES: Applicable August 10, 2022.

FOR FURTHER INFORMATION CONTACT: Jeffrey Pedersen, AD/CVD Operations, Office IV, Enforcement and Compliance, International Trade Administration, U.S. Department of Commerce, 1401 Constitution Avenue NW, Washington, DC 20230; telephone: (202) 482-2769.

SUPPLEMENTARY INFORMATION:

Background

On June 28, 2022, Commerce published in the Federal Register the final results of the 2019-2020 administrative review of the AD order on crystalline silicon photovoltaic cells, whether or not assembled into modules, from China.¹ On July 5, 2022, the American Alliance for Solar Manufacturing (the petitioner) alleged that Commerce made a ministerial error in its calculations in the final results of review.² On July 11, 2022, Risen ³ rebutted the petitioner's ministerial error comments.⁴

¹ See Crystalline Silicon Photovoltaic Cells, Whether or Not Assembled Into Modules, from the People's Republic of China: Final Results of Antidumping Duty Administrative Review and Final Determination of No Shipments; 2019-2020, 87 FR 38379 (June 28, 2022) (Final Results).

² See Petitioner's Letter “Crystalline Silicon Photovoltaic Cells, Whether or Not Assembled into Modules, from the People's Republic of China: Ministerial Error Allegation” dated July 5, 2022.

³ Risen refers to the single entity comprising the following companies: Risen Energy Co. Ltd.; Risen (Wuhai) New Energy Co., Ltd.; Zhejiang Twinsel Electronic Technology Co., Ltd.; Risen (Luoyang) New Energy Co., Ltd.; Jiujiang Shengzhao Xinye Technology Co., Ltd.; Jiujiang Shengzhao Xinye Trade Co., Ltd.; Ruichang Branch (Ruichang Branch), Risen Energy (HongKong) Co., Ltd.; Risen Energy (Changzhou) Co., Ltd.; and Risen Energy (YIWU) Co., Ltd.

⁴ See Risen's Letter “Crystalline Silicon Photovoltaic Cells from the People's Republic of China: Reply Ministerial Error Comments” dated July 11, 2022.

Legal Framework

Pursuant to 19 CFR 351.224(e), Commerce will analyze any ministerial error comments received and, if appropriate, correct any ministerial error by amending the final results of review. According to section 751(h) of the Tariff Act of 1930, as amended (the Act), and 19 CFR 351.224(f), a ministerial error is an error “in addition, subtraction, or other arithmetic function, clerical errors resulting from inaccurate copying, duplication, or the like, and any other type of unintentional error which {Commerce} considers ministerial.”

Ministerial Error

After analyzing interested parties' comments, we have determined that we made a ministerial error in the final results by inadvertently using the incorrect average unit value for the Malaysian Harmonized Tariff Schedule subheading that we selcted to value the mandatory respondents' aluminum frames, profiles, keys, and extrusions. For details regarding the ministerial error, see the Ministerial Error Memorandum.⁵

⁵ See Memorandum, “2019-2020 Administrative Review of the Antidumping Duty Order on Crystalline Silicon Photovoltaic Cells, Whether or Not Assembled into Modules, from the People's Republic of China: Ministerial Error Allegation in the Final Results,” dated concurrently with this notice (Ministerial Error Memorandum).

Accordingly, we are amending our calculations of the mandatory respondents' dumping margins in the final results to reflect our correction of this error.⁶ Because the dumping margins of the non-individually examined respondents to which we granted a separate rate are based on the weighted-average dumping margins that we calculated for the mandatory respondents, we also have amended the dumping margin that we assigned to these non-individually examined respondents.⁷

⁶ See Memorandum, “Antidumping Duty Administrative Review of Certain Crystalline Silicon Photovoltaic Cells, Whether or Not Assembled into Modules, from the People's Republic of China: Amended Final Results Analysis Memorandum—Jinko,” dated concurrently with this notice; see also Memorandum, “Antidumping Duty Administrative Review of Certain Crystalline Silicon Photovoltaic Cells, Whether or Not Assembled into Modules, from the People's Republic of China: Amended Final Results Analysis Memorandum—Risen,” dated concurrently with this notice.

⁷ See Memorandum, “2019-2020 Administrative Review of the Antidumping Duty Order on Crystalline Silicon Photovoltaic Cells, Whether or not Assembled into Modules, from the People's Republic of China: Calculation of the Dumping Margin for Respondents Not Selected for Individual Examination for the Amended Final Results,” dated concurrently with this notice.

Amended Final Results

After correcting the ministerial error referenced above, we have determined that the following weighted-average dumping margins exist for the period of review, December 1, 2019 through November 30, 2020:

Producers/exporters | Weighted- average dumping margin (percent)
Jinko Solar Import and Export Co., Ltd./Jinko Solar Co., Ltd./JinkoSolar Technology (Haining) Co., Ltd./Yuhuan Jinko Solar Co., Ltd./Zhejiang Jinko Solar Co., Ltd./Jiangsu Jinko Tiansheng Solar Co., Ltd./JinkoSolar (Chuzhou) Co., Ltd./JinkoSolar (Yiwu) Co., Ltd./JinkoSolar (Shangrao) Co., Ltd | 20.99
Risen Energy Co. Ltd./Risen (Wuhai) New Energy Co., Ltd./Zhejiang Twinsel Electronic Technology Co., Ltd./Risen (Luoyang) New Energy Co., Ltd./Jiujiang Shengzhao Xinye Technology Co., Ltd./Jiujiang Shengzhao Xinye Trade Co., Ltd./Ruichang Branch/Risen Energy (HongKong) Co., Ltd./Risen Energy (Changzhou) Co., Ltd./Risen Energy (YIWU) Co., Ltd | 12.24
Review-Specific Rate Applicable to the Following Non-Examined Companies
Anji DaSol Solar Energy Science & Technology Co., Ltd | 14.79
BYD (Shangluo) Industrial Co., Ltd | 14.79
Chint Solar (Zhejiang) Co., Ltd., Chint New Energy Technology (Haining) Co., Ltd., Chint Solar (Jiuquan) Co., Ltd., Chint Solar (Hong Kong) Company Limited | 14.79
JA Solar Technology Yangzhou Co., Ltd | 14.79
LONGi Solar Technology Co., Ltd | 14.79
Shanghai JA Solar Technology Co., Ltd | 14.79
Shenzhen Topray Solar Co., Ltd | 14.79
Wuxi Suntech Power Co., Ltd | 14.79
Wuxi Tianran Photovoltaic Co., Ltd | 14.79
Xiamen Yiyusheng Solar Co., Ltd | 14.79
Zhejiang Aiko Solar Energy Technology Co., Ltd | 14.79

Disclosure

Pursuant to 19 CFR 351.224(b), within five days of the publication of this notice in the Federal Register, we will disclose to the parties to this proceeding, the calculations that we performed for these amended final results of review.

Assessment Rates

Pursuant to section 751(a)(2)(C) of the Act and 19 CFR 351.212(b)(1), Commerce has determined, and U.S. Customs and Border Protection (CBP) shall assess, antidumping duties on all appropriate entries of subject merchandise covered by the amended final results of review. Commerce intends to issue assessment instructions to CBP no earlier than 35 days after the date of publication of these amended final results of review in the Federal Register. If a timely summons is filed at the U.S. Court of International Trade, the assessment instructions will direct CBP not to liquidate relevant entries until the time for parties to file a request for a statutory injunction has expired (i.e., within 90 days of publication).

Where a mandatory respondent's weighted-average dumping margin is zero or de minimis, or where an importer-specific ad valorem or per-unit dumping margin is zero or de minimis, Commerce will instruct CBP to liquidate appropriate entries without regard to antidumping duties.⁸ For U.S. entries that were not reported in a mandatory respondent's U.S. sales data, but that were entered under the case number of that respondent (i.e., at the individually-examined exporter's cash deposit rate), Commerce will instruct CBP to liquidate such entries at the cash deposit rate for the China-wide entity (i.e., 238.95 percent).

⁸ See 19 CFR 351.106(c)(2).

We calculated importer or customer-specific ad valorem assessment rates for the mandatory respondents by dividing the total amount of dumping duties for reviewed sales of subject merchandise imported by an importer, or for reviewed sales of subject merchandise to a customer, as appropriate, by the total sales value of those transactions.

For the companies not individually examined in this administrative review that qualified for a separate rate, the assessment rate will be equal to the weight average of the weighted-average dumping margins calculated for the mandatory respondents in these amended final results of review.

Cash Deposit Requirements

The following cash deposit requirements will be effective for shipments of the subject merchandise entered, or withdrawn from warehouse, for consumption on or after the date of publication of this notice of the amended final results of review in the Federal Register, as provided by section 751(a)(2)(C) of the Act: (1) for the companies listed in the table above, the cash deposit rate will be equal to the weighted-average dumping margin listed for the company in the table; (2) for previously investigated or reviewed China and non-China exporters that are not under review in this segment of the proceeding that have a separate rate, the cash deposit rate will continue to be their existing exporter-specific rate; (3) for all China exporters of subject merchandise that do not have a separate rate, their cash deposit rate will be the cash deposit rate previously established for the China-wide entity, which is 238.95 percent; and (4) for all non-China exporters of subject merchandise that do not have a separate rate, the cash deposit rate will be the cash deposit rate applicable to the China exporter that supplied the non-China exporter.

These cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing this notice in accordance with sections 751(h) and 777(i)(1) of the Act, and 19 CFR 351.224(e).

Dated: August 3, 2022.
Abdelali Elouaradia,
Deputy Assistant Secretary for Enforcement and Compliance.

[FR Doc. 2022-17198 Filed 8-9-22; 8:45 am]

BILLING CODE 3510-DS-P